DEPARTMENT OF COMMERCE

International Trade Administration

North American Free Trade Agreement (NAFTA), Article 1904, Binational Panel Reviews: Notice of Completion of Panel Review

AGENCY: United States Section, NAFTA Secretariat, International Trade Administration, Department of Commerce.

ACTION: Notice of completion of panel review in the matter of Supercalendered Paper from Canada: Final Affirmative Countervailing Duty Determination (Secretariat File Number: USA-CDA-2015-1904-01).

SUMMARY: The NAFTA Secretariat has received motions filed on behalf of the U.S. Department of Commerce; the government of Canada; the governments of British Columbia, Ontario, Nova Scotia, New Brunswick, and Quebec; Resolute FP Canada Inc. and Resolute FP US Inc.; Catalyst Paper Corporation, Catalyst Pulp and Paper Sales Inc. and Catalyst Paper (USA) Inc.; Port Hawkesbury Paper LP; Irving Paper Limited; and Verso Corporation requesting the termination of panel review in the Supercalendered Paper from Canada: Final Affirmative Countervailing Duty Determination (Supercalendered Paper CVD) dispute.

Given all the participants have filed motions requesting termination and pursuant to Rule 71(2) of the NAFTA Rules of Procedure for Article 1904 Binational Panel Reviews (Rules), the NAFTA Supercalendered Paper CVD dispute has been terminated.

As a result, and in accordance with Rule 78(a), notice is hereby given that the panel review of the NAFTA Supercalendered Paper CVD dispute has been completed and the panelists were discharged from their duties effective July 24, 2018.

FOR FURTHER INFORMATION CONTACT: Paul E. Morris, United States Secretary, NAFTA Secretariat, Room 2061, 1401 Constitution Avenue NW, Washington, DC 20230, (202) 482-5438.

SUPPLEMENTARY INFORMATION: Chapter 19 of Article 1904 of NAFTA provides a dispute settlement mechanism involving trade remedy determinations issued by the government of the United States, the government of Canada, and the government of Mexico. There are established Rules, which were adopted by the three governments and require Notices of Completion of Panel Review to be published in accordance with Rule 78. For the complete Rules, please see https://www.nafta-sec-alena.org/Home/Texts-of-the-Agreement/Rules-of-Procedure/Article-1904.

Dated: July 31, 2018.
Paul E. Morris,
U.S. Secretary, NAFTA Secretariat.

[FR Doc. 2018-16688 Filed 8-3-18; 8:45 am]

BILLING CODE 3510-GT-P